DEPARTMENT OF THE INTERIOR

Bureau of Land Management

[WY-920-1320-EL, WYW154595]

Notice of Competitive Coal Lease Sale, Wyoming

AGENCY: Bureau of Land Management, Interior.

ACTION: Notice of competitive coal lease sale.

SUMMARY: Notice is hereby given that certain coal resources in the Ten Mile Rim Tract described below in Sweetwater County, WY, will be offered for competitive lease by sealed bid in accordance with the provisions of the Mineral Leasing Act of 1920, as amended (30 U.S.C. 181 et seq.).

DATES: The lease sale will be held at 10 a.m., on Wednesday, January 19, 2005. Sealed bids must be submitted on or before 4 p.m., on Tuesday, January 18, 2005.

ADDRESSES: The lease sale will be held in the First Floor Conference Room (Room 107) of the BLM Wyoming State Office, 5353 Yellowstone Road, P.O. Box 1828, Cheyenne, WY 82003. Sealed bids must be submitted to the Cashier, BLM Wyoming State Office, at the address given above.

FOR FURTHER INFORMATION CONTACT: Julie Weaver, Land Law Examiner, or Robert Janssen, Coal Coordinator, at 307-775-6260, and 307-775-6206, respectively.

SUPPLEMENTARY INFORMATION: This coal lease sale is being held in response to a lease by application (LBA) filed by Bridger Coal Company. The Federal coal tract being considered for sale is adjacent to the Jim Bridger Mine operated by Bridger Coal Company. The coal resources to be offered consist of all reserves recoverable by underground mining methods in the following-described lands located in Sweetwater County north of Point of Rocks, Wyoming. It is approximately 10 miles north of Interstate 80 and is immediately adjacent to the northwestern boundary of the existing Jim Bridger surface mine.

T. 21 N., R. 100 W., 6th PM, Wyoming. Sec. 6: Lots 8-14, S½NE¼, SE¼NW¼, E½SW¼, SE¼;

T. 22 N., R. 100 W., 6th PM, Wyoming. Sec. 30: Lots 5-8, E½W½, E½;

T. 22 N., R. 101 W., 6th PM, Wyoming. Sec. 26: Lots 1-16; Sec. 34: Lots 1, 2, 6-8, 13, NE¼SE¼, SW¼SE¼.

Containing 2,242.18 acres, more or less.

The tract is adjacent to sections within an existing federal coal lease to the south, to alternating sections under a private coal lease, and to an imbedded section under a State of Wyoming lease, all controlled by the Jim Bridger Mine. It is also adjacent to additional unleased federal and private coal to the east, north, and west.

All of the acreage offered has been determined to be suitable for underground mining. There are no existing surface facilities or structures that will be impacted by the proposed underground mine. There are no producing oil and/or gas wells on the tract. All of the surface estate is controlled by the Jim Bridger Mine.

The tract contains underground mineable coal reserves in the Deadman zone of the Fort Union formation currently being recovered in the adjacent, existing surface mine. In this area, the Deadman occurs in numerous seams, but only the D-41 seam is considered to be recoverable in the proposed mine area. This seam ranges from about 7-16 feet thick and occurs over the entire LBA. The depth from the surface ranges from about 250-1050 feet from the shallow southwest corner to the deep northeast corner.

The tract contains an estimated 32,145,000 tons of recoverable coal based on a longwall recovery method. This method assumes 7-8.5 foot recovery for continuous miner sections and 7-11 foot recovery for longwall panels. The estimate of recoverable reserves includes only the D-41 seam.

The Ten Mile Rim LBA coal is ranked as subbituminous B. The overall average quality is approximately 9,900 BTU/lb. with about 10.25% ash, 0.59% sulfur, and 3.21% sodium in the ash. These quality averages are generally higher than the reserves currently being mined in the adjacent surface mine.

The tract will be leased to the qualified bidder of the highest cash amount provided that the high bid equals the fair market value of the tract. The minimum bid for the tract is $100 per acre or fraction thereof. No bid that is less than $100 per acre, or fraction thereof, will be considered. The bids should be sent by certified mail, return receipt requested, or be hand delivered. The Cashier will issue a receipt for each hand-delivered bid. Bids received after 4 p.m., on Tuesday, January 18, 2005, will not be considered. The minimum bid is not intended to represent fair market value. The fair market value of the tract will be determined by the Authorized Officer after the sale. The lease issued as a result of this offering will provide for payment of an annual rental of $3.00 per acre, or fraction thereof, and of a royalty payment to the United States of 12.5 percent of the value of coal produced by strip or auger mining methods and 8 percent of the value of the coal produced by underground mining methods. The value of the coal will be determined in accordance with 30 CFR 206.250.

Bidding instructions for the tract offered and the terms and conditions of the proposed coal lease are available from the BLM Wyoming State Office at the addresses above. Case file documents, WYW154595, are available for inspection at the BLM Wyoming State Office.

Alan Rabinoff,
Deputy State Director, Minerals and Lands.

[FR Doc. 04-27486 Filed 12-16-04; 8:45 am]

BILLING CODE 4310-22-P